DEPARTMENT OF COMMERCE

International Trade Administration

[A-570-815, A-533-807, C-533-806]

Continuation of Antidumping Duty Orders: Sulfanilic Acid From People's Republic of China and India; and Continuation of Countervailing Duty Order: Sulfanilic Acid From India

AGENCY: Import Administration, International Trade Administration, Department of Commerce.

ACTION: Notices of continuation of antidumping duty orders: Sulfanilic acid from People's Republic of China and India; and countervailing duty order, sulfanilic acid from India.

SUMMARY: On February 8, 2000 and on April 6, 2000 (as amended, with respect to the countervailing duty order), the Department of Commerce (“the Department”), pursuant to sections 751(c) and 752 of the Tariff Act of 1930, as amended (“the Act”), determined that revocation of the antidumping duty orders on sulfanilic acid from the People's Republic of China (“PRC”) and India, and the countervailing duty order on sulfanilic acid from India, would be likely to lead to continuation or recurrence of dumping or a countervailable subsidy (65 FR 6156, 65 FR 6171 (as amended, 65 FR18070), respectively). On May 26, 2000, the International Trade Commission (“the Commission”), pursuant to section 751(c) of the Act, determined that revocation of these antidumping and countervailing duty orders on sulfanilic acid would be likely to lead to continuation or recurrence of material injury to an industry in the United States within a reasonably foreseeable time (65 FR 34232). Therefore, pursuant to 19 CFR 351.218(f)(4), the Department is publishing notice of the continuation of antidumping duty orders on sulfanilic acid from the PRC and India, and the countervailing duty order on sulfanilic acid from India.

EFFECTIVE DATE: June 8, 2000.

FOR FURTHER INFORMATION CONTACT: Eun W. Cho or James Maeder, Office of Policy for Import Administration, International Trade Administration, U.S. Department of Commerce, 14th Street and Constitution Ave., NW, Washington, DC 20230; telephone: (202) 482-1698 or (202) 482-3330, respectively.

SUPPLEMENTARY INFORMATION:

Background

On October 1, 1999, the Department initiated, and the Commission instituted, sunset reviews (64 FR 53320 and 64 FR 53412, respectively) of the antidumping duty orders on sulfanilic acid from the PRC and India, and the countervailing duty order on sulfanilic acid from India, pursuant to section 751(c) of the Act. As a result of its reviews, the Department found that revocation of the antidumping duty orders would likely lead to continuation or recurrence of dumping and notified the Commission of the magnitude of the margins likely to prevail were the orders to be revoked.¹ In addition, the Department determined that revocation of the countervailing duty order would likely lead to continuation or recurrence of countervailable subsidies and notified the Commission of the net countervailable subsidies likely to prevail were the order revoked.²

¹ See Sulfanilic Acid From India and The People's Republic of China, 65 FR 6156 (February 8, 2000).

² See Final Results of Expedited Sunset Review: Sulfanilic Acid From India, 65 FR 6171 (February 8, 2000), as amended, Notice of Correction to Final Results of Expedited Sunset Review: Sulfanilic Acid From India, 65 FR 18070 (April 6, 2000).

On May 26, 2000, the Commission determined, pursuant to section 751(c) of the Act, that revocation of the antidumping duty orders on sulfanilic acid from the PRC and India, and the countervailing duty order on sulfanilic acid from India, would be likely to lead to continuation or recurrence of material injury to an industry in the United States within a reasonably foreseeable time (see Sulfanilic Acid from China and India, 65 FR 34232 (May 26, 2000) and USITC Publication 3301, Investigations Nos. 701-TA-318 (Review), and 731-TA-538 and 561 (Review) (May 2000)).

Scope of the Orders

The products covered by these orders are all grades of sulfanilic acid from the PRC and India, which include technical (or crude) sulfanilic acid, refined (or purified) sulfanilic acid and sodium salt of sulfanilic acid (sodium sulfanilate). The principal differences between the grades are the undesirable quantities of residual aniline and alkali insoluble materials present in the sulfanilic acid. All grades are available as dry free flowing powders. Technical sulfanilic acid contains 96 percent minimum sulfanilic acid, 1.0 percent maximum aniline, and 1.0 percent maximum alkali insoluble materials. Refined sulfanilic acid contains 98 percent minimum sulfanilic acid, 0.5 percent maximum aniline, and 0.25 percent maximum alkali insoluble materials. Sodium salt of sulfanilic acid (sodium sulfanilate) is a granular or crystalline material containing 75 percent minimum sulfanilic acid, 0.5 percent maximum aniline, and 0.25 percent maximum alkali insoluble materials based on the equivalent sulfanilic acid content. The merchandise is classifiable under Harmonized Tariff Schedule of the United States (“HTSUS”) subheadings 2921.42.22 and 2921. 42.24.20.

Although the HTSUS subheadings are provided for convenience and customs purposes, our written description of the scope of these orders are dispositive.

Determination

As a result of the determinations by the Department and the Commission that revocation of these antidumping and countervailing duty orders would be likely to lead to continuation or recurrence of dumping or a countervailable subsidy and material injury to an industry in the United States, pursuant to section 751(d)(2) of the Act, the Department hereby orders the continuation of the antidumping duty orders on sulfanilic acid from the PRC and India, and the countervailing duty order on sulfanilic acid from India. The Department will instruct the Customs Service to continue to collect antidumping and countervailing duty deposits at the rates in effect at the time of entry for all imports of subject merchandise. The effective date of continuation of these orders will be the date of publication in the Federal Register of this Notice of Continuation. Pursuant to section 751(c)(2) and 751(c)(6) of the Act, the Department intends to initiate the next five-year review of these orders not later than May 2005.

Dated: June 2, 2000.
Troy H. Cribb,
Acting Assistant Secretary for Import Administration.

[FR Doc. 00-14499 Filed 6-7-00; 8:45 am]

BILLING CODE 3510-DS-P